DEPARTMENT OF THE INTERIOR

Minerals Management Service

RIN 1010-AB57

Major Portion Prices and Due Dates for Additional Royalty Payments on Indian Gas Production in Designated Areas Not Associated With an Index Zone

AGENCY: Minerals Management Service.

ACTION: Notice; correction.

SUMMARY: The Minerals Management Service published a document in the Federal Register of April 29, 2003, concerning major portion prices and due dates for additional royalty payments on Indian gas production in designated areas not associated with an index zone. Information was erroneously omitted from the table.

FOR FURTHER INFORMATION CONTACT: John Barder, 303-231-3702.

Correction

In the Federal Register of April 29, 2003, in FR Doc. 03-10534, on page 22736, the second entry of the table is corrected to read:

MMS-designated areas | October 2001 (MMBtu) | November 2001 (MMBtu) | December 2001 (MMBtu)
Ute Allotted Leases in the Uintah and Ouray Reservation | 0.90 | 2.32 | 1.90

Dated: May 15, 2003.
Lucy Querques Denett,
Associate Director for Minerals Revenue Management.

[FR Doc. 03-12714 Filed 5-20-03; 8:45 am]

BILLING CODE 4310-MR-P